DEPARTMENT OF TRANSPORTATION

Federal Aviation Administration

14 CFR Part 39

[Docket No. 2000-NE-48-AD; Amendment 39-13107; AD 2003-07-11]

RIN 2120-AA64

Airworthiness Directives; Rolls-Royce Deutschland Ltd & Co KG Models BR700-710A1-10 and BR700-710A2-20 Turbofan Engines

AGENCY: Federal Aviation Administration, DOT.

ACTION: Final rule; request for comments.

SUMMARY: This amendment supersedes an existing airworthiness directive (AD), that is applicable to Rolls-Royce Deutschland Ltd & Co KG (RRD) (formerly Rolls-Royce Deutschland GmbH, formerly BMW Rolls-Royce GmbH) models BR700-710A1-10 turbofan engines with fan disc part numbers (P/Ns) BRR18803, BRR19248, or BRR20791 installed, and BR700-710A2-20 turbofan engines with fan discs P/Ns BRR19248 or BRR20791 installed. That AD currently requires initial and repetitive inspections of these fan discs for cracks, and if necessary replacement with serviceable parts. This amendment requires the same inspections but with longer intervals between repetitive inspections under certain conditions, and requires removal of any dry film lubricant coating from the front face of the fan disc for visual inspections. This amendment is prompted by reevaluation by RRD of results from a fleet-wide inspection campaign, reevaluation of existing repetitive inspection interval requirements, and by a revised service bulletin (SB) that introduces improved inspection procedures. The actions specified by this AD are intended to detect cracks in the fan disc, that could result in an uncontained engine failure and damage to the airplane.

DATES: Effective April 28, 2003. The incorporation by reference of certain publications listed in the rule is approved by the Director of the Federal Register as of April 28, 2003.

Comments for inclusion in the Rules Docket must be received on or before June 10, 2003.

ADDRESSES: Submit comments in triplicate to the Federal Aviation Administration (FAA), New England Region, Office of the Regional Counsel, Attention: Rules Docket No. 2000-NE-48-AD, 12 New England Executive Park, Burlington, MA 01803-5299. Comments may be inspected at this location, by appointment, between 8 a.m. and 4:30 p.m., Monday through Friday, except Federal holidays. Comments may also be sent via the Internet using the following address: 9-ane-adcomment@faa.gov. Comments sent via the Internet must contain the docket number in the subject line.

The service information referenced in this AD may be obtained from Rolls-Royce Deutschland Ltd & Co KG, Eschenweg 11, D-15827 DAHLEWITZ, Germany, telephone: International Access Code 011, Country Code 49, 33 7086-2935, fax: International Access Code 011, Country Code 49, 33 7086-3276. This information may be examined, by appointment, at the FAA, New England Region, Office of the Regional Counsel, 12 New England Executive Park, Burlington, MA; or at the Office of the Federal Register, 800 North Capitol Street, NW., suite 700, Washington, DC.

FOR FURTHER INFORMATION CONTACT: James Lawrence, Aerospace Engineer, Engine Certification Office, FAA, Engine and Propeller Directorate, 12 New England Executive Park, Burlington, MA 01803-5299; telephone: 781-238-7176, fax: 781-238-7199.

SUPPLEMENTARY INFORMATION: On March 1, 2001, the FAA issued AD 2001-05-06, Amendment 39-12142 (66 FR 14826, March 14, 2001), to require initial and repetitive inspections of fan discs for cracks, and if necessary replacement with serviceable parts. The Luftfahrt-Bundesamt (LBA), which is the airworthiness authority for Germany, notified the FAA that an unsafe condition may exist on Rolls-Royce Deutschland Ltd & Co KG models BR700-710A1-10 turbofan engines with fan disc P/Ns BRR18803, BRR19248, or BRR20791 installed, and BR700-710A2-20 turbofan engines with fan discs P/Ns BRR19248 or BRR20791 installed. The LBA received several reports of cracks in fan discs, in the dovetail area. RRD determined that these cracks were caused by high-cycle fatigue, and that time predictions and cycle predictions for crack initiation could not be accurately determined. Investigation by RRD has been ongoing. That condition, if not corrected, could result in an uncontained engine failure and damage to the airplane.

Since that AD was issued, RRD has reevaluated results from a fleet-wide inspection campaign, has reevaluated the existing repetitive inspection interval requirements, and has issued SB No. SB-BR700-72-900229, Revision 5, dated January 8, 2003.

Manufacturer's Service Information

RRD has issued SB No. SB-BR700-72-900229, Revision 5, dated January 8, 2003, that specifies procedures for removing any dry film lubricant coating from the front face of the fan disc to improve visual inspections, and initial and repetitive inspections for cracks in fan discs. The LBA classified this service bulletin as mandatory and issued AD 2000-348, Revision 5, dated March 6, 2003, in order to ensure the airworthiness of these RRD models BR700-710A1-10 turbofan engines and BR700-710A2-20 turbofan engines in Germany.

Differences Between This AD and the Manufacturer's Service Information

Although the visual inspection requirements of RRD SB No. SB-BR700-72-900229, Revision 5, dated January 8, 2003, do not specifically define the pass or fail criteria for fan discs, this AD specifically instructs the rejection of fan discs that have visual cracks. FAA communication with RRD has confirmed that the intent of the service bulletin is to require the owner or operator to default to appropriate maintenance manuals for pass or fail criteria. A subsequent review of the maintenance manuals by the FAA has confirmed that no cracks are allowed in the fan discs.

Bilateral Airworthiness Agreement

This engine model is manufactured in Germany and is type certificated for operation in the United States under the provisions of § 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

FAA's Determination of an Unsafe Condition and Required Actions

Since an unsafe condition has been identified that is likely to exist or develop on other RRD models BR700-710A1-10 turbofan engines and BR700-710A2-20 turbofan engines of the same type design, this AD requires for fan discs listed in this AD, removal of any dry film lubricant coating from the fan disc front face to improve visual inspections and initial and repetitive inspections for cracks. The actions must be done in accordance with the service bulletin described previously.

Interim Action

These actions are interim actions and we may take further rulemaking actions in the future.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2000-NE-48-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12142 (66 FR 14826, March 14, 2001) and by adding a new airworthiness directive, Amendment 39-13107, to read as follows:

2003-07-11 Rolls-Royce Deutschland Ltd & Co KG: Amendment 39-13107. Docket No. 2000-NE-48-AD. Supersedes AD 2001-05-06, Amendment 39-12142.

Applicability: This airworthiness directive (AD) is applicable to Rolls-Royce Deutschland Ltd & Co KG (RRD) (formerly Rolls-Royce Deutschland GmbH, formerly BMW Rolls-Royce GmbH) models BR700-710A1-10 turbofan engines with fan disc part numbers (P/Ns) BRR18803, BRR19248, or BRR20791 installed, and BR700-710A2-20 turbofan engines with fan discs P/Ns BRR19248 or BRR20791 installed. These engines are installed on, but not limited to Bombardier Inc. BD-700-1A10, and Gulfstream Aerospace Corp. G-V series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance: Compliance with this AD is required as indicated, unless already done.

To detect cracks in the fan disc that could result in an uncontained engine failure and damage to the airplane, do the following:

Initial Inspection

Engines With Fan Discs P/Ns BRR18803 and BRR19248 Installed

(a) For BR700-710A1-10 engines with fan discs, P/Ns BRR18803 and BRR19248 installed, and BR700-710A2-20 engines with fan discs, P/N BRR19248 installed, do the following:

(1) If the last fan disc inspection was a visual inspection performed using RRD SB No. SB-BR700-900229, Revision 3, dated July 12, 2001, Revision 4, dated December 20, 2001, or Revision 5, dated January 8, 2003, visually or ultrasonically inspect fan disc within 25 flight cycles-since-last inspection (CSLI), in accordance with paragraphs A through F of the applicable Part 1 or Part 2 of the Accomplishment Instructions of RRD SB No. SB-BR700-900229, Revision 5, dated January 8, 2003.

(2) If the last fan disc inspection was an ultrasonic inspection performed using RRD SB No. SB-BR700-900229, Revision 3, dated July 12, 2001, Revision 4, dated December 20, 2001, or Revision 5, dated January 8, 2003, visually or ultrasonically inspect fan disc within 75 CSLI, in accordance with paragraphs A through F of the applicable Part 1 or Part 2 of the Accomplishment Instructions of RRD SB No. SB-BR700-900229, Revision 5, dated January 8, 2003.

(3) For engines that have not yet been inspected, visually or ultrasonically inspect fan disc within 25 flight cycles after the effective date of this AD, in accordance with paragraphs A through F of the applicable Part 1 or Part 2 of the Accomplishment Instructions of RRD SB No. SB-BR700-900229, Revision 5, dated January 8, 2003.

(4) If any cracks are found, remove disc from service and replace with a serviceable disc.

Engines With Fan Discs P/N BRR20791 Installed

(b) For BR700-710A1-10 engines with serial numbers (SNs) 11452 and lower, and BR700-710A2-20 engines with SNs 12352 and lower, with fan discs P/N BRR20791 installed, do the following:

(1) If the last fan disc inspection was a visual inspection performed using RRD SB No. SB-BR700-900229, Revision 3, dated July 12, 2001, Revision 4, dated December 20, 2001, or Revision 5, dated January 8, 2003, visually or ultrasonically inspect fan disc within 25 CSLI, in accordance with paragraphs A through F of the applicable Part 1 or Part 2 of the Accomplishment Instructions of RRD SB No. SB-BR700-900229, Revision 5, dated January 8, 2003.

(2) If the last fan disc inspection was an ultrasonic inspection performed using RRD SB No. SB-BR700-900229, Revision 3, dated July 12, 2001, Revision 4, dated December 20, 2001, or Revision 5, dated January 8, 2003, visually or ultrasonically inspect fan disc within 150 CSLI, in accordance with paragraphs A through F of the applicable Part 1 or Part 2 of the Accomplishment Instructions of RRD SB No. SB-BR700-900229, Revision 5, dated January 8, 2003.

(3) For engines that have not yet been inspected, visually or ultrasonically inspect fan disc within 25 flight cycles after the effective date of this AD, in accordance with paragraphs A through F of the applicable Part 1 or Part 2 of the Accomplishment Instructions of RRD SB No. SB-BR700-900229, Revision 5, dated January 8, 2003.

(4) If any cracks are found, remove disc from service and replace with a serviceable disc.

(c) For BR700-710A1-10 engines with SNs 11453 and higher, and BR700-710A2-20 engines with SNs 12353 and higher with fan discs P/N BRR20791 installed, do the following:

(1) Visually or ultrasonically inspect fan discs within 150 flight cycles-since-new (CSN), in accordance with paragraphs A through F of the applicable Part 1 or Part 2 of the Accomplishment Instructions of RRD SB No. SB-BR700-900229, Revision 5, dated January 8, 2003.

(2) For engines that have not yet been inspected, visually or ultrasonically inspect fan disc within 25 flight cycles after the effective date of this AD, in accordance with paragraphs A through F of the applicable Part 1 or Part 2 of the Accomplishment Instructions of RRD SB No. SB-BR700-900229, Revision 5, dated January 8, 2003.

(3) If any cracks are found, remove disc from service and replace with a serviceable disc.

Repetitive Inspections

(d) Except for engines listed in paragraph (e) of this AD, perform repetitive inspections using the criteria in paragraphs (a) through (b)(4), and (f) of this AD.

(e) For BR700-710A1-10 engines with SNs 11453 and higher, and BR700-710A2-20 engines with SNs 12353 and higher with fan discs P/N BRR20791 installed, perform repetitive inspections using the criteria in paragraphs (c) through (c)(3), and (f) of this AD.

(f) For all discs, perform a visual and ultrasonic inspection before accumulating 500 CSN, in accordance with paragraphs A through F of the applicable Part 1 or Part 2 of the Accomplishment Instructions of RRD SB No. SB-BR700-900229, Revision 5, dated January 8, 2003.

(g) Thereafter, for all discs, perform a visual and an ultrasonic inspection before accumulating 500 cycles-since-the last visual and ultrasonic inspections.

Inspection Reporting Requirements

(g) Report defects in accordance with the applicable Part 1 or Part 2 of RRD SB No. SB-BR700-900229, Revision 5, dated January 8, 2003. Reporting requirements have been approved by the Office of Management and Budget (OMB) and assigned OMB control number 2120-0056.

Alternative Methods of Compliance

(h) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(i) Special flight permits may be issued in accordance with §§ 21.197 and 21.199 of the Federal Aviation Regulations (14 CFR 21.197 and 21.199) to operate the airplane to a location where the requirements of this AD can be done.

Documents That Have Been Incorporated by Reference

(j) The inspection must be done in accordance with Rolls-Royce Deutschland Ltd & Co KG Service Bulletin No. SB-BR700-72-900229, Revision 5, dated January 8, 2003. This incorporation by reference was approved by the Director of the Federal Register in accordance with 5 U.S.C. 552(a) and 1 CFR part 51. Copies may be obtained from Rolls-Royce Deutschland Ltd & Co KG, Eschenweg 11, D-15827 DAHLEWITZ, Germany, telephone: International Access Code 011, Country Code 49, 33 7086-2935, fax: International Access Code 011, Country Code 49, 33 7086-3276. Copies may be inspected at the FAA, New England Region, Office of the Regional Counsel, 12 New England Executive Park, Burlington, MA; or at the Office of the Federal Register, 800 North Capitol Street, NW., suite 700, Washington, DC.

Note 3: The subject of this AD is addressed in LBA AD 2000-348, Revision 5, dated March 6, 2003.

Effective Date

(k) This amendment becomes effective on April 28, 2003.

Issued in Burlington, Massachusetts, on April 1, 2003.
Jay J. Pardee,
Manager, Engine and Propeller Directorate, Aircraft Certification Service.

[FR Doc. 03-8327 Filed 4-10-03; 8:45 am]

BILLING CODE 4910-13-P